DEPARTMENT OF TRANSPORTATION

Federal Aviation Administration

14 CFR Part 39

[Docket No. FAA-2016-5019; Directorate Identifier 2015-SW-079-AD]

RIN 2120-AA64

Airworthiness Directives; Airbus Helicopters

AGENCY: Federal Aviation Administration (FAA), DOT.

ACTION: Notice of proposed rulemaking (NPRM).

SUMMARY: We propose to adopt a new airworthiness directive (AD) for Airbus Helicopters Model AS332C, AS332C1, AS332L, AS332L1, AS332L2, and EC225LP helicopters. This proposed AD would require inspecting the sliding cabin doors. This proposed AD is prompted by the failure of the sliding door's jettison mechanism due to corrosion. The proposed actions are intended to address the unsafe condition in these products.

DATES: We must receive comments on this proposed AD by May 2, 2017.

ADDRESSES: You may send comments by any of the following methods:

• Federal eRulemaking Docket: Go to http://www.regulations.gov. Follow the online instructions for sending your comments electronically.

• Fax: 202-493-2251.

• Mail: Send comments to the U.S. Department of Transportation, Docket Operations, M-30, West Building Ground Floor, Room W12-140, 1200 New Jersey Avenue SE., Washington, DC 20590-0001.

• Hand Delivery: Deliver to the “Mail” address between 9 a.m. and 5 p.m., Monday through Friday, except Federal holidays.

Examining the AD Docket

You may examine the AD docket on the Internet at http://www.regulations.gov by searching for and locating Docket No. FAA-2016-5019; or in person at the Docket Operations Office between 9 a.m. and 5 p.m., Monday through Friday, except Federal holidays. The AD docket contains this proposed AD, the European Aviation Safety Agency (EASA) AD, the economic evaluation, any comments received, and other information. The street address for the Docket Operations Office (telephone 800-647-5527) is in the ADDRESSES section. Comments will be available in the AD docket shortly after receipt.

For service information identified in this proposed rule, contact Airbus Helicopters, 2701 N. Forum Drive, Grand Prairie, TX 75052; telephone (972) 641-0000 or (800) 232-0323; fax (972) 641-3775; or at http://www.airbushelicopters.com/techpub. You may review the referenced service information at the FAA, Office of the Regional Counsel, Southwest Region, 10101 Hillwood Pkwy., Room 6N-321, Fort Worth, TX 76177.

FOR FURTHER INFORMATION CONTACT: David Hatfield, Aviation Safety Engineer, Safety Management Group, Rotorcraft Directorate, FAA, 10101 Hillwood Pkwy., Fort Worth, TX 76177; telephone (817) 222-5116; email david.hatfield@faa.gov.

SUPPLEMENTARY INFORMATION:

Comments Invited

We invite you to participate in this rulemaking by submitting written comments, data, or views. We also invite comments relating to the economic, environmental, energy, or federalism impacts that might result from adopting the proposals in this document. The most helpful comments reference a specific portion of the proposal, explain the reason for any recommended change, and include supporting data. To ensure the docket does not contain duplicate comments, commenters should send only one copy of written comments, or if comments are filed electronically, commenters should submit only one time.

We will file in the docket all comments that we receive, as well as a report summarizing each substantive public contact with FAA personnel concerning this proposed rulemaking. Before acting on this proposal, we will consider all comments we receive on or before the closing date for comments. We will consider comments filed after the comment period has closed if it is possible to do so without incurring expense or delay. We may change this proposal in light of the comments we receive.

Discussion

EASA, which is the Technical Agent for the Member States of the European Union, has issued EASA AD No. 2015-0156, dated July 29, 2015, and corrected July 30, 2015, to correct an unsafe condition for Airbus Helicopters Model AS332C, AS332C1, AS332L, AS332L1, and AS332L2 helicopters manufactured before July 14, 2014, and equipped with cabin sliding plug doors (sliding doors) modified in accordance with Airbus Helicopters modification (MOD) AL25612 or 0725870. EASA AD No. 2015-0156 also applies to Airbus Helicopters Model EC225LP helicopters manufactured before July 14, 2014, and equipped with sliding doors.

EASA advises that the sliding door's emergency jettisoning mechanism failed during a scheduled inspection and that a subsequent investigation found significant corrosion damage caused by water that accumulated after a plastic-rubber compound obstructed the water drain of the door's jettison mechanism system. This condition, if not detected and corrected, could lead to jamming of the jettisoning mechanism, possibly preventing the jettisoning of the door during an emergency and jeopardizing the safe evacuation of occupants, EASA advises.

To address this unsafe condition, EASA AD No. 2015-0156 requires a one-time inspection of the left hand and right hand sliding doors for corrosion.

FAA's Determination

These helicopters have been approved by the aviation authority of France and are approved for operation in the United States. Pursuant to our bilateral agreement with France, EASA, its technical representative, has notified us of the unsafe condition described in its AD. We are proposing this AD because we evaluated all known relevant information and determined that an unsafe condition is likely to exist or develop on other products of the same type design.

Related Service Information Under 1 CFR Part 51

We reviewed Airbus Helicopters Alert Service Bulletin No. AS332-53.01.86, Revision 1, dated June 29, 2015 (ASB AS332-53.01.86), for Model AS332C, AS332C1, AS332L, AS332L1, and AS332L2 helicopters and military model AS332B, B1, F1, M, and M1 helicopters; and Alert Service Bulletin No. EC225-53A048, Revision 0, dated August 18, 2014 (ASB EC225-53A048), for Model EC225LP helicopters. ASB AS332-53.01.86 and ASB EC225-53A048 specify checking areas of the emergency jettisoning system of the sliding doors for the absence of sealing compound, for corrosion on the visible surfaces of the bracket, for the absence of interference between the stainless steel pipe and the aluminum bracket, and for non-obstruction of the drain.

This service information is reasonably available because the interested parties have access to it through their normal course of business or by the means identified in the ADDRESSES section.

Proposed AD Requirements

This proposed AD would require, within 30 days, visually inspecting the left-hand and right-hand sliding doors for sealing compound and removing any sealing compound.

This proposed AD also would require inspecting all visible bracket surfaces for corrosion. If there is any corrosion, this proposed AD would require removing the corrosion, measuring the corrosion depth, and performing a jettisoning test. If the measured corrosion depth is less than 0.5 mm and the door passes the test, this proposed AD would require applying corrosion protectant. If the measured corrosion depth is 0.5 mm or more and the door passes the test, this proposed AD would require applying corrosion protectant, retesting at intervals not to exceed two months, and then replacing the jettisoning system within 6 months. If the door does not pass the test, this proposed AD would require replacing the jettisoning system before further flight.

This proposed AD would also require measuring the clearance between the bracket and stainless steel pipe. If the clearance is less than 3 mm, this proposed AD would require removing the lockwire from the union, loosening the unions of the air vent pipe, positioning the support and the air vent pipe to ensure a minimum clearance of 3 mm. This proposed AD would then require tightening the support and unions of the pipe and safety the union using lockwire.

For Model EC225LP helicopters and Model AS332-series helicopters with modification AL25612, this proposed AD would require inspecting for drain obstruction and, if the drain is obstructed, removing the sealing compound and adhesive from the gutter in the bracket area and unclogging the drain and gutter. This proposed AD would then require cleaning the gutter, applying adhesive to the gutter, and applying sealing compound.

Differences Between This Proposed AD and the EASA AD

The EASA AD requires compliance within various times, depending on the helicopter model and modifications. This proposed AD would require compliance within 30 days.

Costs of Compliance

We estimate that this proposed AD would affect 24 helicopters of U.S. Registry and that labor costs average $85 per work-hour. Based on these estimates, we expect that visually inspecting for corrosion would require 1 work-hour and no parts for a total cost of $85 per helicopter, and $2,040 for the U.S. fleet. Replacing corroded parts would require 8 work-hours and parts would cost $500 for a total cost of $1,180 per helicopter. Replacing the door jettisoning system would require 16 work-hours and parts would cost $4,500 for a total cost of $5,860 per helicopter.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed, I certify this proposed regulation:

1. Is not a “significant regulatory action” under Executive Order 12866;

2. Is not a “significant rule” under the DOT Regulatory Policies and Procedures (44 FR 11034, February 26, 1979);

3. Will not affect intrastate aviation in Alaska to the extent that it justifies making a regulatory distinction; and

4. Will not have a significant economic impact, positive or negative, on a substantial number of small entities under the criteria of the Regulatory Flexibility Act.

We prepared an economic evaluation of the estimated costs to comply with this proposed AD and placed it in the AD docket.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

Airbus Helicopters: Docket No. FAA-2016-5019; Directorate Identifier 2015-SW-079-AD.

(a) Applicability

This AD applies to the following Airbus Helicopters, certificated in any category:

(1) Model AS332C, AS332C1, AS332L, AS332L1, and AS332L2 helicopters with a date of manufacture on or before July 14, 2014, and with a sliding cabin plug door (sliding door) with Airbus Helicopters modification AL25612 or 0725870 installed; and

(2) Model EC225LP helicopters with a date of manufacture on or before July 14, 2014.

(b) Unsafe Condition

This AD defines the unsafe condition as corrosion of a jettisoning mechanism which, if not detected and corrected, could result in failure of a sliding door to jettison, preventing occupants from exiting the helicopter during an emergency.

(c) Comments Due Date

We must receive comments by May 2, 2017.

(d) Compliance

You are responsible for performing each action required by this AD within the specified compliance time unless it has already been accomplished prior to that time.

(e) Required Actions

Within 30 days:

(1) Visually inspect the left-hand and right-hand sliding doors for sealing compound as shown in Figure 1 of Airbus Helicopters Alert Service Bulletin No. AS332-53.01.86, Revision 1, dated June 29, 2015 (ASB AS332-53.01.86), or Airbus Helicopters Alert Service Bulletin No. EC225-53A048, Revision 0, dated August 18, 2014 (ASB EC225-53A048), as applicable for your model helicopter. Remove any sealing compound.

(2) Inspect all visible bracket surfaces for corrosion. If there is any corrosion, remove the corrosion and measure the corrosion depth.

(i) If the measured corrosion depth is less than 0.5 mm, perform a jettisoning test. If the door passes the test, apply corrosion protectant. If the door does not pass the test, replace the jettisoning system before further flight.

(ii) If the measured corrosion depth is 0.5 mm or more, perform a jettisoning test. If the door passes the test, apply corrosion protectant, perform a jettisoning test at intervals not to exceed two months for not more than six months, and replace the jettisoning system within six months. If the door does not pass the test, replace the jettisoning system before further flight.

(3) Measure the clearance between the bracket and stainless steel pipe. If the clearance is less than 3 mm, remove the lockwire from the union and loosen the unions of the air vent pipe. Position the support and the air vent pipe to ensure a minimum clearance of 3 mm. Tighten the support and unions of the pipe and safety the union using lockwire.

(4) For Model EC225LP helicopters and Model AS332-series helicopters with modification AL25612, inspect for drain obstruction by compressing the middle rail roller well piston and injecting distilled water through the roller well to determine if the water drains. If the drain is obstructed, remove the sealing compound and adhesive from the gutter in the bracket area. Remove the drain from the gutter and unclog the drain and gutter using a spatula or brush. Clean the gutter on the bracket side and the drain. Apply adhesive to the gutter and then slide in the drain. Allow the adhesive to dry and then apply sealing compound.

(f) Alternative Methods of Compliance (AMOCs)

(1) The Manager, Safety Management Group, FAA, may approve AMOCs for this AD. Send your proposal to: David Hatfield, Aviation Safety Engineer, Safety Management Group, Rotorcraft Directorate, FAA, 10101 Hillwood Pkwy., Fort Worth, TX 76177; telephone (817) 222-5116; email 9-ASW-FTW-AMOC-Requests@faa.gov.

(2) For operations conducted under a 14 CFR part 119 operating certificate or under 14 CFR part 91, subpart K, we suggest that you notify your principal inspector, or lacking a principal inspector, the manager of the local flight standards district office or certificate holding district office before operating any aircraft complying with this AD through an AMOC.

(g) Additional Information

The subject of this AD is addressed in European Aviation Safety Agency (EASA) AD No. 2015-0156, dated July 29, 2015, and corrected July 30, 2015. You may view the EASA AD on the Internet at http://www.regulations.gov in the AD Docket.

(h) Subject

Joint Aircraft Service Component (JASC) Code: 5220, Emergency Exits.

Issued in Fort Worth, Texas, on February 23, 2017.
Lance T. Gant,
Manager, Rotorcraft Directorate, Aircraft Certification Service.

[FR Doc. 2017-04116 Filed 3-2-17; 8:45 am]

BILLING CODE 4910-13-P